DEPARTMENT OF THE INTERIOR

Bureau of Land Management

[LLIDT000000.L11200000.DD0000.241A.00]

Notice of Public Meetings, Twin Falls District Resource Advisory Council, Idaho

AGENCY: Bureau of Land Management, Interior.

ACTION: Notice of Public Meetings.

SUMMARY: In accordance with the Federal Land Policy and Management Act (FLPMA), the Federal Advisory Committee Act of 1972 (FACA), the U.S. Department of the Interior, Bureau of Land Management (BLM) Twin Falls District Resource Advisory Council (RAC) will meet as indicated below.

DATES: The Twin Falls District Resource Advisory Council will participate in a field tour of a livestock grazing permittee's operation. The tour will take place April 23, 2014. RAC members will meet at the Twin Falls District Office, 2536 Kimberly Road, Twin Falls, Idaho, 83301 at 8:15 a.m. to travel to Hagerman for the field tour. A public comment period will take place from 9:45 a.m. to 10:15 a.m. at the Thousand Springs Resort, (6 miles south of Hagerman), 18734 Hwy-30, Hagerman, ID 83332.

FOR FURTHER INFORMATION CONTACT: Heather Tiel-Nelson, Twin Falls District, Idaho, 2536 Kimberly Road, Twin Falls, Idaho, 83301, (208) 736-2352.

SUPPLEMENTARY INFORMATION: The 15-member RAC advises the Secretary of the Interior, through the Bureau of Land Management, on a variety of planning and management issues associated with public land management in Idaho. The purpose of the April 23rd tour is to give RAC members an in depth look at the process a livestock grazing permittee follows to fulfill the parameters of their grazing permit.

Additional topics may be added and will be included in local media announcements. More information is available at www.blm.gov/id/st/en/res/resource_advisory.3.html. RAC meetings are open to the public.

Dated: March 19, 2014.
James Stovall,
District Manager (Acting).

[FR Doc. 2014-06907 Filed 3-27-14; 8:45 am]

BILLING CODE 4310-GG-P